FEDERAL COMMUNICATIONS COMMISSION

47 CFR Part 73

[FCC 01-286]

Noncommercial Educational Television

AGENCY: Federal Communications Commission.

ACTION: Notice of proposed rulemaking.

SUMMARY: In this document, the Commission seeks comment on whether modification of the license of WQEX(TV), to specify operation on nonreserved Channel 16, will promote the public interest, convenience and necessity, and also, whether the channel, if dereserved, should be subject to competing applications.

DATES: Comments December 17, 2001.

FOR FURTHER INFORMATION CONTACT: Joyce L. Bernstein (202) 418-1600, Video Services Division, Mass Media Bureau.

SUPPLEMENTARY INFORMATION: This is a synopsis of the Commission's Notice of Proposed Rule Making (“NPRM”) entitled, Amendment of the Television Table of Allotments to Delete Noncommercial Reservation of Channel *16, 482-488 MHz, Pittsburgh, Pennsylvania, FCC No. 01-286, released October 11, 2001. The full text of this NPRM is available for inspection and copying during normal business hours in the FCC Reference Room, Room CY-A257, Portals II, 445 12th Street, SW., Washington, DC, and also may be purchased from the Commission's copy contractor, Qualex International, Portals II, 445 12th Street, SW., Room CY-B402, Washington, DC 20554.

Synopsis of NPRM

On January 9, 2001 WQED Pittsburgh (QED), licensee of noncommercial educational television stations WQED(TV), Channel *13 and WQEX(TV), Channel *16, Pittsburgh, Pennsylvania, filed a “Petition to Delete Noncommercial Reservation.” In its petition, QED requests that the Commission amend §§ 73.606 and 73.622 of the Commission's rules, see 47 CFR 73.606 (NTSC channels) and 73.622 (DTV channels), to remove the noncommercial reservation of Channel *16 and permit QED to sell WQEX(TV) as a commercial television station without opening the channel to competing applications, and use the net proceeds to further WQED(TV)'s noncommercial broadcast operation. In the Memorandum Opinion and Order portion of the document, the Commission denies QED's request to dereserve Channel *16. However, in the NPRM section of the document, the Commission commences a rule making proceeding to determine whether modification of the license of WQEX(TV), to specify operation on nonreserved Channel 16, will promote the public interest, convenience and necessity, and also, whether the channel, if dereserved, should be subject to competing applications.

List of Subjects in 47 CFR Part 73

Education, Television.

Federal Communications Commission.
Magalie Roman Salas,
Secretary.

[FR Doc. 01-25997 Filed 10-15-01; 8:45 am]

BILLING CODE 6712-01-P